FEDERAL DEPOSIT INSURANCE CORPORATION

Sunshine Act Meeting

Pursuant to the provisions of the “Government in the Sunshine Act” (5 U.S.C. 552b), notice is hereby given that the Federal Deposit Insurance Corporation's Board of Directors will meet in open session at 2:00 p.m. on Monday, March 26, 2001, to consider the following matters:

Summary Agenda: No substantive discussion of the following items is anticipated. These matters will be resolved with a single vote unless a member of the Board of Directors requests that an item be moved to the discussion agenda.

Disposition of minutes of previous Board of Directors' meetings

Summary reports, status reports, and reports of actions taken pursuant to authority delegated by the Board of Directors

Memorandum and resolution re: Statement of Policy Regarding Binding Arbitration

Memorandum and resolution re: Part 369—Proposal to Amend Rule Concerning Prohibition Against Use of Interstate Branches Primarily for Deposit Production

Discussion Agenda:

Memorandum and resolution re: Recission of Deposit Broker Notification, Recordkeeping and Reporting Requirements—Section 337.6(e) of the FDIC's Regulations

The meeting will be held in the Board Room on the sixth floor of the FDIC Building located at 550 17th Street, NW., Washington, DC.

The FDIC will provide attendees with auxiliary aids (e.g., sign language interpretation) required for this meeting. Those attendees needing such assistance should call (202) 416-2089 (Voice); (202) 416-2007 (TTY), to make necessary arrangements.

Requests for further information concerning the meeting may be directed to Mr. Robert E. Feldman, Executive Secretary of the Corporation, at (202) 898-6757.

Dated: March 19, 2001.
Federal Deposit Insurance Corporation.
Robert E. Feldman,
Executive Secretary.

[FR Doc. 01-7171 Filed 3-19-01; 3:56 pm]

BILLING CODE 6714-01-M